NATIONAL SCIENCE FOUNDATION

Proposal Review Panel for Computing and Communication Foundations; Notice of Meeting

In accordance with the Federal Advisory Committee Act (Pub. L. 92-463, as amended), the National Science Foundation (NSF) announces the following meeting:

Name: Proposal Panel Review for Computing and Communication Foundations—Science and Technology Centers Integrative Partnerships (#1192) Site Visit.

Date/Time:

December 5, 2016; 6:30 p.m.-8:30 p.m.

December 6, 2016; 8:00 a.m.-8:00 p.m.

December 7, 2016; 8:30a.m.-3:00 p.m.

Place: Purdue University, West Lafayette, IN.

Type of Meeting: Part-Open.

Contact Person: John Cozzens, National Science Foundation, 4201 Wilson Boulevard, Room 1115, Arlington, VA 22230. Telephone: (703) 292-8910.

Purpose of Meeting: To assess the progress of the STC Award: 0939370, “Emerging Frontiers of Science of Information”, and to provide advise and recommendations concerning further NSF support for the Center.

Agenda: CSol Site Visit.

Monday, December 5, 2016

6:30 p.m. to 8:30 p.m.: CLOSED—Site Team and NSF Staff meets to discuss Site Visit materials, review process and charge.

Tuesday, December 6, 2016

8:00 a.m. to 1:00 p.m.: OPEN—Presentations by Awardee Institution, faculty staff and students, to Site Team and NSF Staff. Discussions and question and answer sessions.

1:00 p.m.-8:00 p.m.: CLOSED—Draft report on education and research activities.

Wednesday, December 7, 2016

8:30 a.m.-12:00 p.m.: OPEN—Response presentations by Site Team and NSF Staff Awardee Institution faculty staff. Discussions and question and answer sessions.

12:00 p.m. to 3:00 p.m.: CLOSED—Complete written site visit report with preliminary recommendations.

Reason for Closing: The closed portions of the site review will include information of a proprietary or confidential nature, including technical information; financial data, such as salaries; and personal information concerning individuals associated with the award. These matters are exempt under 5 U.S.C. 552b(c), (4) and (6) of the Government in the Sunshine Act.

Dated: November 14, 2016.
Crystal Robinson,
Committee Management Officer.

[FR Doc. 2016-27689 Filed 11-16-16; 8:45 am]

BILLING CODE 7555-01-P